DEPARTMENT OF STATE

[Public Notice 10097]

E.O. 13224 Designation of Abu Yahya al-Iraqi, aka Ayad Hamed Mohal al-Jumail, aka Ayad Hammed Muhal Shuab, aka Abu-Yahya, aka Iyad Hamed Mahl al-Jumaily, aka Iyad al-Jumayli, aka Ayad Hamid al-Jumaili, aka Ayad al-Jumaili, aka Ayad Miuhammed Mahar, aka Ayad Muhammad Mahar, aka Ayad Hamed Mohl Aljamali, aka Ayad Hamed Mahal Joumily as a Specially Designated Global Terrorist

Acting under the authority of and in accordance with section 1(b) of Executive Order 13224 of September 23, 2001, as amended by Executive Order 13268 of July 2, 2002, and Executive Order 13284 of January 23, 2003, I hereby determine that the person known as Abu Yahya al-Iraqi, also known as Ayad Hamed Mohal al-Jumail, also known as Ayad Hammed Muhal Shuab, also known as Abu-Yahya, also known as Iyad Hamed Mahl al-Jumaily, also known as Iyad al-Jumayli, also known as Ayad Hamid al-Jumaili, also known as Ayad al-Jumaili, also known as Ayad Miuhammed Mahar, also known as Ayad Muhammad Mahar, also known as Ayad Hamed Mohl Aljamali, also known as Ayad Hamed Mahal Joumily, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Rex W. Tillerson,
Secretary of State.

[FR Doc. 2017-17833 Filed 8-22-17; 8:45 am]

BILLING CODE 4710-AD-P